DEPARTMENT OF ENERGY

Federal Energy Regulatory Commission

[Docket No. RP00-162-009]

Panhandle Eastern Pipe Line Company; Notice of Compliance Filing

January 3, 2001.

Take notice that on December 22, 2000, Panhandle Eastern Pipe Line Company (Panhandle) tendered for filing as part of its FERC Gas Tariff, First Revised Volume No. 1, the following tariff sheets to be effective May 22, 2000.

Sub Original Sheet No. 119

2nd Sub Original Sheet No. 110

Panhandle assets that the purpose of this filing is to comply with the Commission's Order on Rehearing and Compliance Filing issued on November 24, 2000 in Docket No. RP00-162-005 and RP00-162-006, 93 FERC ¶61,211 (2000), to revise the charge for takes in excess of shipper's hourly delivery quantity under Rate Schedule HFT.

Panhandle states that a copy of this filing is available for public inspection during regular business hours at Panhandle's office at 5444 Westheimer Road, Houston, Texas 77056-5306. In addition, copies of this filing are being served on all affected customers, applicable state regulatory agencies and parties to this proceeding.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-525 Filed 1-8-01; 8:45 am]

BILLING CODE 6717-01-M